Proclamation 8938 of March 1, 2013

10th Anniversary of the United States Department of Homeland Security

By the President of the United States of America

A Proclamation

Ten years ago, when the tragic events of September 11 were fresh in our hearts and our Nation found itself in a more uncertain world, the United States Department of Homeland Security (DHS) opened its doors with a single task: keeping the American people safe. Day by day, hour by hour, the Department has advanced that critical mission through a decade of shifting threats and new challenges. We take this opportunity to recognize its accomplishments and pay tribute to the people who have made them possible.

Alongside its partners in government and the private sector, DHS has taken action to make our borders and ports more secure, our critical infrastructure and cyber networks more resilient, and our people more engaged in addressing the dangers we face. While threats persist, America is better prepared to meet them, and we stand ready to overcome whatever challenges the future holds.

Homeland security cannot begin and end with the Federal Government; it takes commitment from every part of society. By forging lasting partnerships with stakeholders at home and abroad, DHS has worked to streamline our legal immigration system, stem the tide of illegal immigration, and chart a course toward sensible reform. And in a decade marked by national emergencies and natural disasters, the Department has invested in communities nationwide, improving our preparedness for times of crisis.

As we commemorate a decade of service, our Nation recognizes the men and women who have carried out the Department of Homeland Security's vision for a safer, stronger America.

NOW, THEREFORE, I, BARACK OBAMA, President of the United States of America, by virtue of the authority vested in me by the Constitution and the laws of the United States, do hereby proclaim March 1, 2013, as the 10th Anniversary of the United States Department of Homeland Security. I call upon all Americans to recognize the United States Department of Homeland Security for improving America's readiness and resilience.

IN WITNESS WHEREOF, I have hereunto set my hand this first day of March, in the year of our Lord two thousand thirteen, and of the Independence of the United States of America the two hundred and thirty-seventh.

[FR Doc. 2013-05395

Filed 3-5-13; 11:15 am]

Billing code 3295-F3